DEPARTMENT OF JUSTICE

National Institute of Corrections

Solicitation for a Cooperative Agreement: The Norval Morris Project

AGENCY: National Institute of Corrections, Department of Justice.

ACTION: Solicitation for cooperative agreement.

SUMMARY: The National Institute of Corrections (NIC) is soliciting proposals from organizations, groups, or individuals to enter into a cooperative agreement for a 12-month period to begin in May, 2009. Work under this agreement will continue NIC's Norval Morris Project. Dr. Morris was instrumental in creating NIC over 30 years ago and remained a guiding influence as a charter member of the NIC Advisory Board until the day he passed away in February 2004. Shortly after his death, the NIC Advisory Board created the Norval Morris project to honor his many contributions to the field and carry on the sprit of his work.

Dr. Morris believed that a major shortcoming in correctional policy and practice was that the field did not make effective use of the available research and evaluation. Among his keenest interests was the issue of effective dissemination. He used research findings to inform the field and promote greater collaboration. At its heart, the Norval Morris Project is about developing models and executing strategies for expediting the circulation of research-based innovations, knowledge, and ideas by addressing specific topics of vital concern to the field of corrections.

DATES: Applications must be received by 4 p.m. (EDT) on Friday, May 8, 2009. Selection of the successful applicant and notification of review results to all applicants: May 30, 2009.

ADDRESSES: Mailed applications must be sent to Director, National Institute of Corrections, 320 First Street, NW., Room 5007, Washington, DC 20534. Applicants are encouraged to use Federal Express, UPS, or similar service to ensure delivery by the due date.

Hand delivered applications should be brought to 500 First Street, NW., Washington, DC 20534. At the front desk, call (202) 307-3106, extension 0 for pickup. Faxed or e-mailed applications will not be accepted. Electronic applications can be submitted via http://www.grants.gov.

FOR FURTHER INFORMATION CONTACT: A copy of this announcement and the required application forms can be downloaded from the NIC Web site at http://www.nicic.gov/cooperativeagreements.

All technical or programmatic questions concerning this announcement should be directed to Christopher A. Innes, PhD, Chief, Research and Evaluation Division, National Institute of Corrections. He can be reached by calling 1-800-995-6423 ext 0098 or by e-mail at cinnes@bop.gov.

SUPPLEMENTARY INFORMATION:

Project Goals: The recipient of the award under this cooperative agreement will; (1) Organize the second meeting of the Project's Keystone Group to be held in the fall of 2009. All expenses for the meeting, expected to last two and a half days for up to 20 people, will be provided out of the funding awarded under this agreement; (2) Organize up to three additional meetings for the topic teams or other subject matter experts. All expenses for these meetings, expected to last one and a half days for up to 10 people, will be provided out of the funding awarded under this agreement; (3) Provide ongoing support for the Keystone Group and Topic Teams, including overall coordination among and between the teams, research support, continuing outreach for the project, and assistance to NIC in marketing the project's products; (4) Provide support for the NIC-Norval Morris Project Web site and forums, including preparing materials for posting, providing technical support for users, and advising NIC on the use of these and other technologies to support or expand the reach of the project; (5) Produce working papers, literature searches and reviews, collect and distribute supporting materials concerning the current two topics, and perform exploratory research into future topics the project may want to adopt.

Background: Through cooperative agreements since 2006, NIC has designed a structure to carry out the Norval Morris Project. The project brings together people both inside and outside the corrections field to develop interdisciplinary approaches and draw on professional networks that cut across academic, private sector and public sector boundaries. Such an expansive vision requires a steering group to “kick start” the search for innovations. Because this group's responsibility is essential for creating and maintaining the project's overarching vision, it is called the Keystone Group.

The first Keystone Group meeting took place in September 2008. It involved 19 thought leaders—half of them corrections practitioners—plus NIC senior and project staff. The retreat itself was designed to be emergent, without preset limits on the group's scope of work, design, or strategy. The Keystone Group's function is to identify emerging topics and knowledge which could be imported into the corrections field, advise the project on how best to translate this knowledge to inform correctional practice, and assist the project in disseminating the results to the field in innovative ways.

During the Keystone Group's meeting, two provocative questions were developed. They were; “How can we transform correctional leadership and the workforce in ways that empower staff to reduce recidivism and promote prevention?” and; “How can we safely and systematically reduce the correctional population by half in eight years?”

The next step of the process, which began immediately after the Keystone Group meeting, was to begin to assemble Topic Teams. Structured similarly to the Keystone Group, the Topic Teams function as stand alone working groups and focus on each of the topic areas the Keystone Group identified. An “invitation” to participate was sent to a broad audience, seeking people interested in participating in a Topic Team. The teams are continuing to develop, refine and expand on the topics. As implied by the ambitious scope of the questions above, the topic areas are intended to be far-reaching in their change implications, representing, in the broadest sense, the knowledge strategies that will drive future innovations in the field.

For more information on the Norval Morris Project, visit http://www.nicic.gov/Norval. For additional resources, go to: http://www.nicic.gov.

Required Expertise: Successful applicants should be able to demonstrate that they have the organizational capacity to carry out all five goals of the project, including experience in organizing meetings and providing ongoing support for complex, multi-year projects, extensive experience in correctional policy and practice, and a strong background in research. Preference will also be given to applicants with a record of working with interdisciplinary teams in a variety of fields beyond corrections.

Application Requirements: Applications should be concisely written, typed double spaced and reference the “NIC Opportunity Number” and Title provided in this announcement. Please limit the program narrative text to 25 double spaced pages, exclusive of resumes and summaries of experience (do not submit full curriculum vitae). The application package must include: A cover letter that identifies the audit agency responsible for the applicant's financial accounts as well as the audit period or fiscal year that the applicant operates under (e.g., July 1 through June 30), a program narrative responding to the requirements in this announcement, a description of the qualifications of the applicant(s), an outline explaining projected costs, and the following forms: OMB Standard Form 424, Application for Federal Assistance, OMB Standard Form 424A, Budget Information—Non Construction Programs, OMB Standard Form 424B, Assurances—Non Construction Programs (these forms are available at http://www.grants.gov) and DOJ/NIC Certification Regarding Lobbying; Debarment, Suspension and Other Responsibility Matters; and Drug-Free Workplace Requirements (available at http://www.nicic.org/Downloads/PDF/certif-frm.pdf).

Applications may be submitted in hard copy, or electronically via http://www.grants.gov. If submitted in hard copy, there needs to be an original and three copies of the full proposal (program and budget narratives, application forms and assurances). The original should have the applicant's signature in blue ink.

Authority: Public Law 93-415.

Funds Available: NIC is seeking the applicants' best ideas regarding accomplishment of the scope of work and the related costs for achieving the goals of this solicitation. Funds may only be used for the activities that are linked to the desired outcome of the project.

Eligibility of Applicants: An eligible applicant is any public or private agency, educational institution, organization, individual or team with expertise in the described areas.

This project will be a collaborative venture with the NIC Research and Evaluation Division.

Review Considerations: Applications received under this announcement will be subject to the NIC Review Process. The criteria for the evaluation of each application will be as follows, 1. Programmatic (40%). Are all of the five tasks adequately discussed? Is there a clear statement of how each of the tasks will be accomplished, including the staffing, resources, and strategies to be employed? Are there any innovative approaches, techniques, or design aspects proposed that will enhance the project? 2. Organizational (35%). Do the skills, knowledge, and expertise of the organization and the proposed project staff demonstrate a high level of competency to carry out the tasks? Does the applicant organization have the necessary experience and organizational capacity to carry out all five goals of the project? Are the proposed project management and staffing plans realistic and sufficient to complete the project within the 12-month time frame? 3. Project Management/Administration (25%). Does the applicant identify reasonable objectives, milestones, and measures to track progress? If consultants and/or partnerships are proposed, is there a reasonable justification for their inclusion in the project and a clear structure to insure effective coordination? Is the proposed budget realistic, provide sufficient cost detail/narrative, and represent good value relative to the anticipated results?

Note: NIC will NOT award a cooperative agreement to an applicant who does not have a Dun and Bradstreet Database Universal Number (DUNS) and is not registered in the Central Contractor Registry (CCR).

A DUNS number can be received at no cost by calling the dedicated toll-free DUNS number request line at 1-800-333-0505 (if you are a sole proprietor, you would dial 1-866-705-5711 and select option 1).

Registration in the CCR can be done online at the CCR Web site: http://www.ccr.gov. A CCR Handbook and work sheet can also be reviewed at the Web site.

Number of Awards: One.

NIC Opportunity Number: 09PEI25. This number should appear as a reference line in the cover letter, where the opportunity number is requested on the Standard Form 424, and outside of the envelope in which the application is sent.

Catalog of Federal Domestic Assistance Number: 16.602 Executive Order 12372: This program is not subject to the provisions of Executive Order 12372.

Morris L. Thigpen,
Director, National Institute of Correction.

[FR Doc. E9-7699 Filed 4-3-09; 8:45 am]

BILLING CODE 4410-36-M